DEPARTMENT OF COMMERCE

National Oceanic and Atmospheric Administration

[I.D. 092501D]

Fisheries of the Northeastern United States; Atlantic Surf Clam and Ocean Quahog Fisheries; 2002 Cage Tags

AGENCY: National Marine Fisheries Service (NMFS), National Oceanic and Atmospheric Administration (NOAA), Commerce.

ACTION: Notice of vendor to provide fishing year 2002 cage tags.

SUMMARY: NMFS informs surf clam and ocean quahog allocation owners that they will be required to purchase their fishing year 2002 cage tags from a vendor. The intent is to comply with regulations for the surf clam and ocean quahog fisheries and to promote efficient distribution of cage tags.

ADDRESSES: Written inquiries may be sent to Walt Gardiner, National Marine Fisheries Service, Northeast Regional Office, One Blackburn Drive, Gloucester, MA 01930-3799.

FOR FURTHER INFORMATION CONTACT: Walt Gardiner, Fishery Management Specialist, (978) 281-9326.

SUPPLEMENTARY INFORMATION: The Federal Atlantic Surfclam and Ocean Quahog Fisheries regulations at 50 CFR 648.75(b) authorize the Administrator, Northeast Region, NMFS, to specify in the Federal Register a vendor from whom cage tags, required under the Atlantic Surf Clam and Ocean Quahog Fishery Management Plan, shall be purchased. Notice is hereby given that National Band and Tag Company of Newport, KY, is the authorized vendor of cage tags required for the fishing year 2002 Federal surf clam and ocean quahog fisheries. Detailed instructions for purchasing these cage tags will be provided in a letter to allocation owners in these fisheries within the next several weeks.

Dated: October 5, 2001.
Bruce C. Morehead,
Acting Director, Office of Sustainable Fisheries, National Marine Fisheries Service.

[FR Doc. 01-25555 Filed 10-10-01; 8:45 am]

BILLING CODE 3510-22-S